DEPARTMENT OF HEALTH AND HUMAN SERVICES

National Institutes of Health

National Institute of Environmental Health Sciences; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Institute of Environmental Health Sciences Special Emphasis Panel; R13 Support for Conferences and Scientific Meetings.

Date: April 3, 2019.

Time: 11:30 a.m. to 3:30 p.m.

Agenda: To review and evaluate grant applications.

Place: NIEHS/National Institutes of Health, Keystone Building, 530 Davis Drive, Research Triangle Park, NC 27709.

Contact Person: Varsha Shukla, Ph.D., Scientific Review Officer, Scientific Review Branch, Division of Extramural Research and Training, Nat. Institute of Environmental Health Sciences, Research Triangle Park, NC 27709, 984/287-3288, varsha.shukla.nih.gov.

Name of Committee: National Institute of Environmental Health Sciences Special Emphasis Panel; NIEHS Loan Repayment Program 2019 (LRP).

Date: April 12, 2019.

Time: 8:00 a.m. to 5:00 p.m.

Agenda: To review and evaluate contract proposals.

Place: NIEHS/National Institutes of Health, Keystone Building, Room 3094, 530 Davis Drive, Research Triangle Park, NC 27709.

Contact Person: Varsha Shukla, Ph.D., Scientific Review Officer, Scientific Review Branch, Division of Extramural Research and Training, Nat. Institute of Environmental Health Sciences, Research Triangle Park, NC 27709, 984/287-3288, varsha.shukla.nih.gov.

Name of Committee: National Institute of Environmental Health Sciences Special Emphasis Panel; U01 Special Emphasis Panel on Telomere Length Measures and Environmental Exposures Review Meeting.

Date: May 2, 2019.

Time: 8:30 a.m. to 12:00 p.m.

Agenda: To provide concept review of proposed grant applications.

Place: Hilton Garden Inn Durham, Southpoint Chatham Ballroom, 7007 Fayetteville Road, Durham, NC 27713.

Contact Person: Leroy Worth, Ph.D., Scientific Review Officer, Scientific Review Branch, Division of Extramural Research and Training, Nat. Institute of Environmental Health Sciences, Room 3171, Research Triangle Park, NC 27709, 919/541-0670, worth@niehs.nih.gov.

Name of Committee: National Institute of Environmental Health Sciences Special Emphasis Panel; U24 Telomere Research Network SEP Review Meeting.

Date: May 2, 2019.

Time: 12:30 p.m. to 2:45 p.m.

Agenda: To review and evaluate grant applications.

Place: Hilton Garden Inn Durham, Southpoint Chatham Ballroom, 7007 Fayetteville Road, Durham, NC 27713.

Contact Person: Leroy Worth, Ph.D., Scientific Review Officer, Scientific Review Branch, Division of Extramural Research and Training, Nat. Institute of Environmental Health Sciences, Research Triangle Park, NC 27709, 919/541-0670, worth@niehs.nih.gov.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: February 11, 2019.
Natasha M. Copeland,
Program Analyst, Office of Federal Advisory Committee Policy.

[FR Doc. 2019-02431 Filed 2-14-19; 8:45 am]

BILLING CODE 4140-01-P